DEPARTMENT OF COMMERCE

International Trade Administration

[A-570-831]

Fresh Garlic from the People's Republic of China: Final Results and Partial Rescission of the 14th Antidumping Duty Administrative Review

AGENCY: Import Administration, International Trade Administration, Department of Commerce.

SUMMARY: On December 8, 2009, the Department of Commerce (Department) published in the Federal Register its preliminary results of administrative review of the antidumping duty order on fresh garlic from the People's Republic of China (PRC) covering the period of review (POR) of November 1, 2007, through October 31, 2008. See Fresh Garlic from the People's Republic of China: Preliminary Results of, and Intent to Rescind, in Part, the Antidumping Duty Administrative Review, 74 FR 64677 (December 8, 2009) (Preliminary Results). Following the Preliminary Results, we provided interested parties with an opportunity to comment on the Preliminary Results. Our analysis of the comments submitted and information received did not lead to any changes in the Preliminary Results. Therefore, the final results do not differ from the Preliminary Results.

As discussed below, the Department is applying total adverse facts available (AFA) to the six mandatory respondents who each failed to cooperate to the best of its ability in this proceeding. These mandatory respondents are Anqiu Friend Food Co., Ltd. (Anqiu Friend), Jining Trans-High Trading Co., Ltd. (Jining Trans-High), Qingdao Saturn International Trade Co., Ltd. (Qingdao Saturn), Shenzhen Fanhui Import & Export Co., Ltd. (Shenzhen Fanhui), Jinxiang Tianma Freezing Storage Co., Ltd. (Tianma Freezing), and Weifang Shennong Foodstuff Co., Ltd. (Weifang Shennong). The Department also finds that eleven companies subject to this review,¹ including mandatory respondents Shanghai Ever Rich Trade Company (Shanghai Ever Rich), Jining Trans-High, Qingdao Saturn, and Shenzhen Fanhui did not demonstrate their eligibility for separate rate status. See Appendix 2. In addition, the Department grants a separate rate to the four fully-cooperative non-selected respondents which demonstrated their eligibility for separate rate status. For the rates assigned to each of these companies, see the “Final Results of Review” section of this notice. Finally, the Department is also rescinding the review with respect to one exporter who timely submitted a “no shipment” certification. See “Final Partial Rescission of Administrative Review” section of this notice.

¹ A full list of companies subject to this review is provided in Appendix 3.

DATES: Effective Date: June 21, 2010.

FOR FURTHER INFORMATION CONTACT: Scott Lindsay, AD/CVD Operations, Office 6, Import Administration, International Trade Administration, U.S. Department of Commerce, 14th Street and Constitution Avenue, NW., Washington DC 20230; telephone: (202) 482-0780.

SUPPLEMENTARY INFORMATION:

Background

On December 8, 2009, the Department published in the Federal Register the preliminary results of the 14th AR of the antidumping duty order on fresh garlic from the PRC. See Preliminary Results. Since the Preliminary Results, the following events have occurred.

On January 5, 2010, the Department notified parties that case briefs were due January 11, 2010. On January 14, 2010, the Department extended the deadlines for rebuttal briefs to January 25, 2010. On January 11, 2010, Shenzhen Greening Trading Company Ltd. (Greening) and Jinan Yipin Corporation Ltd. (Jinan Yipin) submitted their respective case briefs. Also on January 11, 2010, Qingdao Xintianfeng Foods Co., Ltd. (Qingdao Xintianfeng) and Weifang Hongqiao International Logistic Co., Ltd. (Weifang Hongqiao) and the following interested parties: Anqiu Friend Food Co., Ltd., Anqiu Haoshun Trade Co., Ltd., Jinxiang Dongyun Freezing Storage Co., Ltd., Juye Homestead Fruits and Vegetables Co., Ltd., Qingdao Tiantaixing Foods Co., Ltd., Qufu Dongbao Import & Export Trade Co., Ltd., Shandong Chenhe International Trading Co., Ltd., Shandong Longtai Fruits and Vegetables Co., Ltd., Shenzhen Fanhui Import and Export Co., Ltd., Shenzhen Sunny Import & Export Co., Ltd. and Weifang Shennong Foodstuff Co., Ltd. (collectively as “Interested Parties”), submitted their case brief.² On January 25, 2010, the Fresh Garlic Producers Association (FGPA) and its individual members (Christopher Ranch LLC, the Garlic Company, Valley Garlic, and Vessey and Company, Inc.) (collectively, Petitioners) filed their rebuttal brief. On February 25, 2010, the Department held a public hearing.

² On October 21, 2009, the Department rescinded the administrative review of forty-three companies. See Fresh Garlic from the People's Republic of China: Partial Rescission of Antidumping Duty Administrative Review, 74 FR 54029 (Oct. 21, 2009). The Department's rescission included the rescission of Shenzhen Xinboda Industrial Co., Ltd. (Xinboda) which Interested Parties commented upon in a letter to the Department on November 18, 2009. The Interested Parties further commented upon the Department's rescission of Xinboda in their case brief. For a complete discussion of this issue, see Comment 5 of the Issues and Decision Memorandum.

On March 19, 2010, Department officials met with Jinan Yipin's counsel to discuss issues related to the briefs. See Memorandum for the File from Scott Lindsay, Case Analyst, AD/CVD Operations, Office 6, Meeting with Counsel for Jinan Yipin Corporation Ltd.: Fresh Garlic from the People's Republic of China (March 19, 2010).

On April 8, 2010, the Department extended the time limit for completion of the final results of this administrative review by 30 days. See Fresh Garlic from the People's Republic of China: Extension of Time Limits for Final Results of the Antidumping Duty Administrative Review, 75 FR 19364 (April 14, 2010). On May 11, 2010, the Department extended the time limit for completion of the final results of this administrative review by an additional 30 days. See Fresh Garlic from the People's Republic of China: Extension of Time Limits for Final Results of the Antidumping Duty Administrative Review, 75 FR 29314 (May 25, 2010).

Scope of the Order

The products covered by this order are all grades of garlic, whole or separated into constituent cloves, whether or not peeled, fresh, chilled, frozen, provisionally preserved, or packed in water or other neutral substance, but not prepared or preserved by the addition of other ingredients or heat processing. The differences between grades are based on color, size, sheathing, and level of decay. The scope of this order does not include the following: (a) Garlic that has been mechanically harvested and that is primarily, but not exclusively, destined for non-fresh use; or (b) garlic that has been specially prepared and cultivated prior to planting and then harvested and otherwise prepared for use as seed. The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS).

Although the HTSUS subheadings are provided for convenience and customs purposes, our written description of the scope of this order is dispositive. In order to be excluded from the Order, garlic entered under the HTSUS subheadings listed above that is (1) mechanically harvested and primarily, but not exclusively, destined for non-fresh use or (2) specially prepared and cultivated prior to planting and then harvested and otherwise prepared for use as seed must be accompanied by declarations to CBP to that effect.

Analysis of Comments Received

Issues raised in the case and rebuttal briefs by parties to this proceeding and to which we have responded are listed in Appendix 1 to this notice and addressed in the Memorandum To: Ronald K. Lorentzen, Deputy Assistant Secretary for Import Administration, From: John M. Andersen, Acting Deputy Assistant Secretary for Antidumping and Countervailing Duty Operations, Subject: Fresh Garlic from the People's Republic of China: Issues and Decision Memorandum for the Final Results of the Fourteenth Antidumping Duty Administrative Review, dated June 14, 2010 (Issues and Decision Memorandum), which is hereby adopted by this notice. Parties can find a complete discussion of the issues raised in this administrative review and the corresponding recommendations in this public memorandum, which is on file in the Central Records Unit (CRU), Room 1117 of the main Department building. In addition, a copy of the Issues and Decision Memorandum can be accessed directly on our Web site at http://ia.ita.doc.gov/frn. The paper copy and electronic version of the Issues and Decision Memorandum are identical in content.

Final Partial Rescission of Administrative Review

In the Preliminary Results, the Department announced its intent to rescind the administrative review with respect to Jining Yongjia Trade Co., Ltd. (Jining Yongjia). In accordance with the instructions in the Initiation Notice, Jining Yongjia timely certified that it had no shipments of subject merchandise to the United States during the POR. See Preliminary Results, 74 FR at 64679; see also Initiation of Antidumping and Countervailing Duty Administrative Reviews and Requests for Revocation in Part, 73 FR 79055 (Dec. 24, 2008) (Initiation Notice). We confirmed Jining Yongjia's claim by issuing a no-shipment inquiry to CBP and examining electronic CBP data. Our examination of shipment data from CBP for Jining Yongjia indicated that there were no entries of subject merchandise which they exported during the POR. Id. We received no response from CBP regarding our no-shipment inquiry, which corroborates Jining Yongjia's no-shipment certification. No other parties commented on our preliminary intent to rescind. Thus, there is no information or argument on the record of the current review that warrants reconsidering our preliminary decision to rescind. Therefore, we are rescinding this administrative review with respect to Jining Yongjia.

Separate Rates

In the Initiation Notice, the Department instructed all named firms that wished to qualify for separate rate status in the instant administrative review to complete, as appropriate, either a separate-rate certification or a separate-rate application, due no later than 30 or 60 calendar days, respectively, after publication of the Initiation Notice. See Initiation Notice, 73 FR at 79056. As noted in the Preliminary Results, Anqiu Friend, Henan Weite Industrial Co. Ltd. (Henan Weite), Qingdao Xintianfeng, Shanghai LJ, Tianma Freezing, Weifang Hongqiao, and Weifang Shennong each timely submitted separate-rate documentation. Based on our analyses of this information, the Department preliminarily found that Henan Weite, Shanghai LJ, Anqiu Friend, Jinxiang Tianma, Qingdao Xintianfeng, Weifang Hongqiao, and Weifang Shennong each has established, prima facie, that it qualified for separate rates under the criteria established by Silicon Carbide and Sparklers. There is no information on the record to warrant reconsideration of these findings. As such, the Department has found that each of these seven companies has demonstrated that it qualifies for separate rates status.

The per-unit separate rate to be applied to Henan Weite, Qingdao Xintianfeng, Shanghai LJ, and Weifang Hongqiao is discussed in the “Selection of Rate Applicable to Fully Cooperative Non-Selected Respondents That Qualify for a Separate Rate” section, below. The per-unit separate rate to be applied to Anqiu Friend, Tianma Freezing, and Weifang Shennong is discussed in the “Application of Facts Available” section, below.³ As discussed in the Preliminary Results, the Department found that because Shanghai Ever Rich, Jining Trans-High, Qingdao Saturn, and Shenzhen Fanhui, mandatory respondents, and seven other companies subject to the review did not file timely separate rate certifications or applications, they were part of the PRC-wide entity. There is no information on the record of this review that warrants reconsideration of these findings. As such, the Department has found that these eleven companies are part of the PRC-wide entity. See Appendix 2.

³ In the instant case, Anqiu Friend, Tianma Freezing, and Weifang Shennong each timely submitted certain information related to their separate rate status. However, the Department selected each company as a mandatory respondent. As mandatory respondents, each company failed to cooperate to the best of its ability in the review as a whole either because it did not submit its sales and factors of production information, or because it submitted incomplete and unverifiable sales and factors of production data. However, because the Department did not notify Anqiu Friend, Tianma Freezing, and Weifang Shennong in advance of submission of the separate rate information that a respondent would not qualify for separate rate status if it failed to cooperate to the best of its ability throughout the investigation and/or review, Anqiu Friend, Tianma Freezing, and Weifang Shennong will keep their separate rate status. See e.g., Amended Final Results of Antidumping Duty Administrative Review and New Shipper Reviews: Wooden Bedroom Furniture from the People's Republic of China, 72 FR 46957 (August 22, 2007) and accompanying Issues and Decision Memorandum at Comment 43.

Selection of Rate Applicable to Fully Cooperative Non-Selected Respondents That Qualify for a Separate Rate

In the Preliminary Results, the Department assigned the separate rate per-unit margin calculated in 06/07 Administrative Review (i.e., the separate rate calculated in the most recently completed administrative review of fresh garlic from the PRC) to the four cooperative separate rate respondents not selected for individual examination that qualified for a separate rate (i.e. Henan Weite, Qingdao Xintianfeng, Shanghai LJ, and Weifang Hongqiao). See Memorandum from Nicholas Czajkowski, Case Analyst, Office 6, Re: Final Results of the Administrative Review of Fresh Garlic from the People's Republic of China: Separate Rate Companies and PRC-Wide Entity—Per-Unit Assessment Rates (June 8, 2009) (Per Unit Memorandum) placed on the record of this review concurrent with these preliminary results.

The Department received a case brief from Qingdao Xintianfeng and Weifang Hongqiao and a rebuttal brief from Petitioners addressing issues related to what per-unit separate rate to apply to four non-selected cooperating respondents. These comments are discussed fully in the Issues and Decision Memorandum. We have not changed the per-unit separate rate to be applied to the four non-selected cooperating respondents. When dealing with the situation where there are no calculated rates in the administrative review to apply to the separate rate companies, the Department has determined that a reasonable method is to assign to non-reviewed companies the most recent rate individually calculated for such non-selected companies, unless we calculated in a more recent segment a rate for any company that was not zero, de minimis, or based entirely on FA, in which case we would assign the more recent rate, or average of such more recent rates, as the case may be. See Certain Frozen Warmwater Shrimp from the Socialist Republic of Vietnam: Final Results and Final Partial Rescission of Antidumping Duty Administrative Review, 74 FR 47191 (September 15, 2009). Further, the Department has found this same methodology to be “reasonable because it is reflective of the commercial behavior demonstrated by exporters of the subject merchandise during a recent period of time.” See Certain Frozen Warmwater Shrimp from the Socialist Republic of Vietnam: Final Results and Final Partial Rescission of Antidumping Duty Administrative Review, 73 FR 52273 (September 9, 2008) and the accompanying Issues and Decisions Memorandum at Comment 6. Therefore, for these final results, we continue to apply the separate rate per-unit margin calculated in 06/07 Administrative Review to the four non-selected fully cooperative respondents.

Application of Adverse Facts Available

Subsequent to their submission of separate rate documentation, the Department selected Anqiu Friend, Tianma Freezing, and Weifang Shennong as mandatory respondents. In the Preliminary Results, the Department found that each of these companies failed to cooperate to the best of its ability in the review as a whole. Tianma Freezing did not respond to our questionnaire and Anqiu Friend and Weifang Shennong each provided incomplete and unverifiable sales, cost, and factors of production data. The Department also stated that mandatory respondents must respond to all the information that has been requested by the Department and not selectively choose which requests to respond to or which information to submit. See Preliminary Results.

In the Preliminary Results, the Department determined that an inference that is adverse to the interests of Anqiu Friend, Tianma Freezing, and Weifang Shennong was warranted. No new information has been placed on the record which warrants reconsideration of this determination. Therefore, for these final results, as AFA the Department is assigning Anqiu Friend, Tianma Freezing, and Weifang Shennong the per kilogram rate of $4.71 calculated in the 06/07 Administrative Review. See Per Unit Memorandum.

As noted in the Preliminary Results, Qingdao Saturn, Jining Trans-High, and Shenzhen Fanhui did not timely file separate rate documentation prior to their selection as mandatory respondents. Jining Trans-High and Shenzhen Fanhui did not respond to our questionnaire and Qingdao Saturn provided incomplete and unverifiable sales, cost, and factors of production data. The Department preliminarily found that there was no basis upon which to find that any of these three companies were eligible for separate rate status, and thus they were part of the PRC-wide entity. Accordingly, the PRC-wide entity, which includes these three companies, is under review. We further found that the PRC-wide entity, of which these companies are a part, failed to cooperate by not acting to the best of its ability.

No information on the record of this review warrants reconsideration of these findings. Therefore, for these final results, the Department has determined that the PRC-wide entity did not participate fully in this proceeding, and that in selecting from among the facts otherwise available, an adverse inference is warranted for the PRC-wide entity, pursuant to section 776(b) of the Act. For these final results, as AFA, the Department is assigning the PRC-wide entity the per kilogram rate of $4.71 calculated in the 06/07 Administrative Review. See Per Unit Memorandum.

Corroboration of Secondary Information Used as Adverse Facts Available

Section 776(c) of the Act provides that, where the Department selects from among the facts otherwise available and relies on “secondary information,” the Department shall, to the extent practicable, corroborate that information from independent sources reasonably at the Department's disposal. Secondary information is described in the SAA as “information derived from the petition that gave rise to the investigation or review, the final determination covering the subject merchandise, or any previous review under section 751 concerning the subject merchandise.” See Statement of Administrative Action accompanying the Uruguay Round Agreements Act, H.R. Doc. No. 103-316, vol. 1 (1994) (SAA) at 870. The SAA states that “corroborate” means to determine that the information used has probative value. Id. The Department has determined that to have probative value, information must be reliable and relevant. See, e.g., Tapered Roller Bearings and Parts Thereof, Finished and Unfinished, From Japan, and Tapered Roller Bearings Four Inches or Less in Outside Diameter, and Components Thereof, from Japan; Preliminary Results of Antidumping Duty Administrative Reviews and Partial Termination of Administrative Reviews, 61 FR 57391, 57392 (November 6, 1996) (unchanged in final results). The SAA also states that independent sources used to corroborate such evidence may include, for example, published price lists, official import statistics and customs data, and information obtained from interested parties during the particular investigation or review. See SAA at 870; see also Notice of Preliminary Determination of Sales at Less Than Fair Value: High and Ultra-High Voltage Ceramic Station Post Insulators from Japan, 68 FR 35627, 35629 (June 16, 2003) (unchanged in final determination); and Notice of Final Determination of Sales at Less Than Fair Value: Live Swine From Canada, 70 FR 12181, 12183 (March 11, 2005).

To be considered corroborated, information must be found to be both reliable and relevant. Unlike other types of information, such as input costs or selling expenses, there are no independent sources for calculated dumping margins. The only sources for calculated margins are administrative determinations. The per-unit AFA rate we are applying for the current review was calculated using the ad valorem rate from the original investigation of garlic from the PRC. See Per Unit Memorandum. Furthermore, no information has been presented in the current review that calls into question the reliability of this information. Thus, the Department finds that the information is reliable.

With respect to the relevance aspect of corroboration, the Department will consider information reasonably at its disposal to determine whether a margin continues to have relevance. Where circumstances indicate that the selected margin is not appropriate as AFA, the Department will disregard the margin and determine an appropriate margin. See, e.g., Fresh Cut Flowers From Mexico; Final Results of Antidumping Duty Administrative Review, 61 FR 6812, 6814 (February 22, 1996). Similarly, the Department does not apply a margin that has been discredited. See D&L Supply Co. v. United States, 113 F.3d 1220, 1221 (Fed. Cir. 1997) (the Department will not use a margin that has been judicially invalidated). None of these unusual circumstances are present with respect to the rate being used here. Moreover, the rate selected, i.e. $4.71 per kilogram, is the rate currently applicable to the PRC-wide entity. The Department assumes that if an uncooperative respondent could have obtained a lower rate, it would have cooperated. See Rhone Poulenc, Inc. v. United States, 899 F. 2d 1185, 1190-91 (Fed. Cir. 1990); Ta Chen Stainless Steel Pipe, Inc. v. United States, 24 CIT 841, 848 (2000) (respondents should not benefit from failure to cooperate). As there is no information on the record of this review that demonstrates that this rate is not appropriate to use as AFA in the current review, we determine that this rate has relevance.

As this AFA rate is both reliable and relevant, we determine that it has probative value, and is thus in accordance with the requirement, under section 776(c) of the Act, that secondary information be corroborated to the extent practicable (i.e., that it has probative value).

Final Results of Review

As a result of our review, we determine that the following margins exist for the period November 1, 2007 through October 31, 2008:

Fresh Garlic From the PRC 2007-2008 Administrative Review
Manufacturer/exporter | Weighted-average margin (dollars per kilogram)
Henan Weite Industrial Co., Ltd | 1.03
Qingdao Xintianfeng Foods Co., Ltd | 1.03
Shanghai LJ International Trading Co., Ltd | 1.03
Weifang Hongqiao International Logistic Co., Ltd | 1.03
Anqiu Friend Food Co., Ltd | 4.71
Jinxiang Tianma Freezing Storage Co., Ltd | 4.71
Weifang Shennong Foodstuff Co., Ltd | 4.71
PRC-wide Entity (see Appendix 2) | 4.71

Disclosure

We will disclose any memorandums used in our analysis to parties to these proceedings within five days of the date of publication of this notice. See 19 CFR 351.224(b).

Assessment Rates

Pursuant to 19 CFR 351.212(b), the Department will determine, and CBP shall assess, antidumping duties on all appropriate entries. For assessment purposes, where possible, the Department normally calculates importer-specific assessment rates for fresh garlic from the PRC. However, as discussed above, we are not calculating any company-specific antidumping duties in these final results. As such, it is not possible to calculate importer-specific assessment rates in this review. Rather, those companies demonstrating eligibility for a separate rate (Henan Weite, Qingdao Xintianfeng, Shanghai LJ, and Weifang Hongqiao) were assigned the most recently calculated per-unit separate rate, while Anqiu Friend, Tianma Freezing, and Weifang Shennong were assigned a separate rate based on total AFA. Other companies subject to review (discussed in detail above and listed in Appendix 2) are found to be part of the PRC-wide entity.

Consistent with the 06/07 Administrative Review, we will direct CBP to assess a per-unit (i.e., per kilogram) amount on each entry of the subject merchandise during the POR. In the 06/07 Administrative Review, we calculated a per-unit assessment rate for separate rate companies, which is the same separate rate applicable in this review. See Per Unit Memorandum. This same per-unit assessment rate will be applied to subject merchandise exported by Henan Weite, Qingdao Xintianfeng, Shanghai LJ, or Weifang Hongqiao.

Also in the 06/07 Administrative Review, we calculated per-unit assessment rates for the companies that were determined to be part of the PRC-wide entity. See Per Unit Memorandum. This is the highest per unit rate calculated in any segment of the proceeding and, as such, will be applied in this review to all companies that received a rate based on AFA, including the PRC-wide entity. (See Appendix 2). The Department intends to issue appropriate assessment instructions directly to CBP 15 days after publication of the final results of this review.

Cash Deposit Requirements

Consistent with 06/07 Administrative Review, we will establish and collect a per-kilogram cash deposit amount which will be equivalent to the company-specific dumping margins published in these final results of this review. Specifically, the following cash deposit requirements will be effective upon publication of the final results of this review for all shipments of the subject merchandise entered, or withdrawn from warehouse, for consumption on or after the publication date of the final results, as provided by section 751(a)(1) of the Act: (1) For subject merchandise exported by Henan Weite, Qingdao Xintianfeng, Shanghai LJ, or Weifang Hongqiao, the cash deposit rate will be the per-unit rate determined in the final results of the administrative review; (2) for subject merchandise exported by Anqiu Friend, Tianma Freezing, or Weifang Shennong the cash deposit rates will be the per-unit rate determined in the final results of the administrative review; (3) for subject merchandise exported by PRC exporters subject to this administrative review that have not been found to be entitled to a separate rate (see Appendix 2), the cash deposit rate will be the per-unit PRC-wide rate determined in the final results of administrative review; (4) for subject merchandise exported by all other PRC exporters of subject merchandise that have not been found to be entitled to a separate rate, the cash deposit rate will be the per-unit PRC-wide rate determined in the final results of administrative review; (5) for previously-investigated or previously-reviewed PRC and non-PRC exporters who received a separate rate in a prior segment of the proceeding (and which were not reviewed in this segment of the proceeding), the cash deposit rate will continue to be the rate assigned in that segment of the proceeding; (6) the cash deposit rate for non-PRC exporters of subject merchandise which have not received their own rate will be the rate applicable to the PRC exporter that supplied that non-PRC exporter. These requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This administrative review and notice are in accordance with sections 751(a)(1) and 777(i) of the Act and 19 CFR 351.213.

Dated: June 14, 2010.
Paul Piquado,
Acting Deputy Assistant Secretary for Import Administration.

Appendix 1

Issue 1: Whether the Petitioners' Request for Review of Jinan Yipin was Deficient.

Issue 2: Whether the Department Should Rescind its Administrative Review with Respect to Jinan Yipin and Shenzhen Greening.

Issue 3: Whether the Requirement That a Party Timely Certify No-Shipments is Unfair and Arbitrary.

Issue 4: Application of PRC-Wide Rate to Jinan Yipin and Shenzhen Greening.

Issue 5: Rescission of Shenzhen Xinboda.

Issue 6: Determination of Separate Rate.

Appendix 2

Companies Under Review Subject to the PRC-Wide Rate

1. Jining Trans-High Trading Co., Ltd.

2. Qingdao Saturn International Trade Co., Ltd.

3. Shenzhen Fanhui Import & Export Co., Ltd.

4. Heze Ever-Best International Trade Co., Ltd. (f/k/a Shandong Heze International Trade and Developing Company)

5. Jinan Yipin Corporation Ltd.

6. Jinxiang Dongyun Freezing Storage Co., Ltd. (a/k/a Jinxiang Eastward Shipping Import and Export Limited Company)

7. Jinxiang Shanyang Freezing Storage Co., Ltd.

8. Qufu Dongbao Import & Export Trade Co., Ltd.

9. Shenzhen Greening Trading Co., Ltd.

10. Shanghai Ever Rich Trade Company

11. Taiyan Ziyang Food Co., Ltd.

Appendix 3

Companies Subject to the Administrative Review

1. Anqiu Friend Food Co., Ltd.

2. Henan White Industrial Co., Ltd.

3. Heze Ever-Best International Trade Co., Ltd. (f/k/a Shandong Heze International Trade and Developing Company).

4. Jining Trans-High Trading Co., Ltd.

5. Jinan Yipin Corporation Ltd.

6. Jining Yongjia Trade Co., Ltd. (rescinded).

7. Jinxiang Dongyun Freezing Storage Co., Ltd. (a/k/a Jinxiang Eastward Shipping Import and Export Limited Company).

8. Jinxiang Shanyang Freezing Storage Co., Ltd.

9. Jinxiang Tianma Freezing Storage Co., Ltd.

10. Qingdao Xintianfeng Foods Co., Ltd.

11. Qingdao Saturn International Trade Co., Ltd.

12. Qufu Dongbao Import & Export Trade Co., Ltd.

13. Shanghai Ever Rich Trade Company.

14. Shanghai LJ International Trading Co., Ltd.

15. Shenzhen Fanhui Import & Export Co., Ltd.

16. Shenzhen Greening Trading Co., Ltd.

17. Taiyan Ziyang Food Co., Ltd.

18. Weifang Hongqiao International Logistic Co., Ltd.

19. Weifang Shennong Foodstuff Co., Ltd.

[FR Doc. 2010-14959 Filed 6-18-10; 8:45 am]

BILLING CODE 3510-DS-P